DEPARTMENT OF THE INTERIOR

Bureau of Indian Affairs

25 CFR Parts 15, 18, 150, 152 and 179

Office of the Secretary

43 CFR Parts 4 and 30

RIN 1076-AE59

Indian Trust Management Reform

AGENCY: Bureau of Indian Affairs, Office of the Secretary, Interior.

ACTION: Notice of reopening of comment period for proposed rule.

SUMMARY: On August 8, 2006, the Bureau of Indian Affairs (BIA) and the Office of the Secretary proposed to amend several of their regulations related to Indian trust management (see 71 FR 45173). The rule proposes to address Indian trust management issues in the areas of probate, probate hearings and appeals, tribal probate codes, life estates and future interests in Indian land, the Indian land title of record, and conveyances of trust or restricted land. The proposed rule also includes an “Application for Consolidation by Sale” form that is associated with one of these amendments. On November 1, 2006, the BIA and the Office of the Secretary reopened the comment period for an additional 60 days to January 2, 2007 (see 71 FR 64181).

This notice reopens the comment period an additional 45 days to March 12, 2007. The BIA and Office of Secretary again are extending the comment period by 45 days to ensure that all interested parties, including tribes and individual Indians, have the opportunity to review the proposed rule and prepare their comments.

DATES: The comment period for the proposed rule published on August 8, 2006 (71 FR 45173) is extended to March 12, 2007.

ADDRESSES: You may submit comments, identified by the number 1076-AE59, by any of the following methods:

—Federal rulemaking portal: http://www.regulations.gov. Follow the instructions for submitting comments.

—Web site at www.doitrustregs.com.

—E-mail: Michele_F_Singer@ios.doi.gov. Include the number 1076-AE59 in the subject line of the message.

—Fax: (202) 208-5320. Include the number 1076-AE59 in the subject line of the message.

—Mail: U.S. Department of the Interior, 1849 C Street, NW., Mail Stop 4141, Washington, DC 20240.

—Hand delivery: Michele Singer, U.S. Department of the Interior, 1849 C Street, NW., Washington, DC 20240.

Comments on the information collection burdens, including comments on or requests for copies of the “Application for Consolidation by Sale” form, are separate from those on the substance of the rule. Send comments on the information collection burdens to: Interior Desk Officer 1076-AE59, Office of Management and Budget, e-mail: oira_docket@omb.eop.gov; or (202) 395-6566 (fax). Please also send a copy of your comments to BIA at the location specified under the heading ADDRESSES.

FOR FURTHER INFORMATION CONTACT: Michele Singer, Counselor to the Assistant Secretary—Indian Affairs, Department of the Interior, 1849 C Street, NW., Mail Stop 4141, Washington, DC 20240, telephone (202) 273-4680.

Authority: Regulatory amendments to these parts are proposed under the general authority of the American Indian Trust Fund Management Reform Act of 1994, 25 U.S.C. 4021 et seq., and the Indian Land Consolidation Act of 2000, as amended by the American Indian Probate Reform Act of 2004, 25 U.S.C. 2201 et seq.

Dated: January 17, 2007.
Mike D. Olsen,
Principal Deputy Assistant Secretary—Indian Affairs.

[FR Doc. 07-325 Filed 1-24-07; 8:45 am]

BILLING CODE 4310-W7-P